DEPARTMENT OF THE INTERIOR

National Park Service

Selma To Montgomery National Historic Trail Advisory Council Notice of Meeting

Notice is hereby given in accordance with the Federal Advisory Committee Act, Pub. L. 92-463, that a meeting of the Selma to Montgomery National Historic Trail Advisory Council will be held Wednesday, April 13, 2005 at 9 a.m. until 3:30 p.m., at the Performance Art Centre of Selma, Inc. in Selma, AL.

The Selma to Montgomery National Historic Trail Advisory Council was established pursuant to Pub. L. 100-192 establishing the Selma to Montgomery National Historic Trail. This Council was established to advise the National Park Service on such issues as preservation of trail routes and features, public use, standards for posting and maintaining trail markers, and administrative matters.

The matters to be discussed include:

(A) Review of last meeting Minutes

(B) 40th Anniversary Updates

The meeting will be open to the public. However, facilities and space for accommodating members of the public are limited and persons will be accommodated on first come, first serve basis. Anyone may file a written statement with Catherine F. Light, Trail Superintendent concerning the matters to be discussed.

Person wishing further information concerning this meeting may contact Catherine F. Light, Trail Superintendent, Selma to Montgomery National Historic Trail, at (334) 727-6390 (phone), (334) 727-4597 (fax) or mail 1212 Old Montgomery Road, Tuskegee Institute, Alabama 36088.

Catherine F. Light,
Selma to Montgomery National Historic Trail, Superintendent.

[FR Doc. 05-4732 Filed 3-9-05; 8:45 am]

BILLING CODE 4312-52-P